FEDERAL COMMUNICATIONS COMMISSION

Notice of Public Information Collection(s) Being Reviewed by the Federal Communications Commission, Comments Requested

July 12, 2005.

SUMMARY: The Federal Communications Commission, as part of its continuing effort to reduce paperwork burden, invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information, subject to the Paperwork Reduction Act that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 16, 2005. If you anticipate that you will be submitting comments, but find it difficult to do so within the period of time allowed by this notice, you should advise the contact listed below as soon as possible.

ADDRESSES: Direct all Paperwork Reduction Act (PRA) comments to Les Smith, Federal Communications Commission, Room 1-A804, 445 12th Street, SW., Washington, DC 20554 or via the Internet to Leslie.Smith@fcc.gov.

FOR FURTHER INFORMATION CONTACT: For additional information or copies of the information collection(s), contact Les Smith at (202) 418-0217 or via the Internet at Leslie.Smith@fcc.gov.

SUPPLEMENTARY INFORMATION: OMB Control Number: 3060-0874.

Title: Consumer Complaint Form/Obscene, Profane, and Indecent Complaint Form.

Form Number: FCC 475 and FCC 475-B.

Type of Review: Revision of a currently approved collection.

Respondents: Individuals or households; Business or other for-profit entities; Not-for-profit institutions; Federal government; State, local or Tribal Government.

Number of Respondents: FCC Form 475—83,287; FCC Form 475-B—1,271,332.

Estimated Time per Response: 30 minutes per form.

Frequency of Response: On occasion reporting requirement.

Total Annual Burden: FCC Form 475—41,644 hours; FCC Form 475-B—635,666 hours.

Total Annual Cost: None.

Privacy Impact Assessment: Yes.

Needs and Use: FCC Form 475, Consumer Complaint Form, allows the Commission to collect detailed data from consumers of the practices of common carriers. This information contained in the collection will allow consumers to provide the Commission with the relevant information required to help consumers develop a concise statement outlining the issue in dispute. The Commission uses the information to assist in resolving informal complaints and the collected data required to assess the practices of common carriers and as a part of investigative work performed by federal and state law enforcement agencies to monitor carrier practices and promote compliance with federal and state requirements. The data may ultimately become the foundation for enforcement actions and/or rulemaking proceedings, as appropriate. The Commission asks for the complainant's contact information in the first ten fields, including, address, telephone number and e-mail address. The Form 475 also asks that the consumer briefly describe their complaint including the company involved, the account numbers, important dates, and the resolution the consumer is seeking.

FCC Form 475-B, Obscene, Profane, and Indecent Complaint Form, allows the Commission to collect detailed data from consumers on the practices of those entities that may air obscene, profane and indecent programming by giving consumers an opportunity, for the first time, to use a specific form to delineate the consumer's complaint. Form 475-B will be used only for complaints associated with indecent, profane, and obscene programs. This information contained in the collection will allow consumers to provide the Commission with the relevant information to help consumers develop a concise statement outlining the issue in dispute thereby minimizing the amount of time it takes to file a complaint, minimizing confusion on what information the Commission requires, and improving the complaint process and the overall quality of the complaints received. Form 475-B will include fields that will ask for the complainant's contact information, including name, address, e-mail address, and telephone number. Form 475-B will also include a section that asks for information to help identify the station that aired the alleged indecent, profane, and/or indecent material, including the network's name, name of the station, name of the particular program including host or personality/DJ, time of the program, the time zone, the date of the program and the community where the material was aired. The last section on Form 475-B asks the complainant to describe the incident and to include as much detail as possible about specific words, languages, and images, to help the Commission determine whether the program was, in fact, obscene, profane, or indecent. The data may ultimately become the foundation for enforcement actions and/or rulemaking proceedings, as appropriate.

The information will strengthen the effectiveness of the Commission's rules in deterring obscene, profane, and indecent content and programming.

Note: In this document, The Commission corrects inaccuracies published in 70 FR 38922, July 6, 2005, regarding OMB Collection No. 3060-0874.

Federal Communications Commission.
Marlene H. Dortch,
Secretary.

[FR Doc. 05-14062 Filed 7-15-05; 8:45 am]

BILLING CODE 6712-01-P